SMALL BUSINESS ADMINISTRATION

[Declaration of Disaster #3418]

State of Illinois

As a result of the President's major disaster declaration on May 21, 2002, I find that Alexander, Clay, Clinton, Edwards, Effingham, Fayette, Franklin, Gallatin, Hamilton, Hardin, Jackson, Jasper, Jefferson, Johnson, Madison, Marion, Massac, Monroe, Perry, Pope, Pulaski, Randolph, Richland, St. Clair, Saline, Union, Washington, Wayne, White and Williamson Counties in the State of Illinois constitute a disaster area due to damages caused by severe storms, tornadoes and flooding occurring on April 21, 2002 and continuing. Applications for loans for physical damage as a result of this disaster may be filed until the close of business on July 20, 2002 and for economic injury until the close of business on February 21, 2003 at the address listed below or other locally announced locations:

U.S. Small Business Administration, Disaster Area 2 Office, One Baltimore Place, Suite 300, Atlanta, GA 30308.

In addition, applications for economic injury loans from small businesses located in the following contiguous counties may be filed until the specified date at the above location: Bond, Clark, Crawford, Cumberland, Jersey, Lawrence, Macoupin, Montgomery, Shelby and Wabash in the State of Illinois; Gibson and Posey Counties in the State of Indiana; Ballard, Crittenden, Livingston, McCracken and Union Counties in the Commonwealth of Kentucky; and Cape Girardeau, Jefferson, Mississippi, Perry, Scott, St. Charles, St. Louis and Ste. Genevieve Counties and the Independent City of St. Louis in the State of Missouri.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury: Businesses and small agricultural cooperatives without credit available elsewhere | 3.500

The number assigned to this disaster for physical damage is 341811. For economic injury the number is 9P7800 for Illinois; 9P7900 for Indiana; 9P8000 for Kentucky; and 9P8100 for Missouri.

(Catalog of Federal Domestic Assistance Program Nos. 59002 and 59008).
Dated: May 22, 2002.
Herbert L. Mitchell,
Associate Administrator for Disaster Assistance.

[FR Doc. 02-13456 Filed 5-29-02; 8:45 am]

BILLING CODE 8025-02-P